DEPARTMENT OF ENERGY

Federal Energy Regulatory Commission

[Project No. 1889-085; Project No. 2485-071]

Firstlight MA Hydro LLC; Northfield Mountain LLC; Notice of Settlement Agreement and Soliciting Comments

Take notice that the following settlement agreement has been filed with the Commission and is available for public inspection.

a. Type of Application: Settlement Agreement.

b. Project Nos.: 1889-085 and 2485-071.

c. Date Filed: June 12, 2023.

d. Applicant: FirstLight MA Hydro LLC and Northfield Mountain LLC (collectively FirstLight).

e. Name of Projects: Turners Falls Hydroelectric Project and Northfield Mountain Pumped Storage Project (collectively, projects).

f. Location: The existing projects are located on the Connecticut River in the counties of Windham, Vermont; Cheshire, New Hampshire; and Franklin, Massachusetts. The current project boundary for the Turners Falls Project includes the approximately 20-acre Silvio Conte Anadromous Fish Laboratory, which is administered by the U.S. Geological Survey.

g. Filed Pursuant to: Rule 602 of the Commission's Rules of Practice and Procedure, 18 CFR 385.602.

h. Applicant Contact: Alan Douglass, Regulatory Compliance Manager, FirstLight MA Hydro LLC and Northfield Mountain LLC, 99 Millers Falls Road, Northfield, MA 01360; (413) 659-4416 or alan.douglass@firstlightpower.com.

i. FERC Contact: Steve Kartalia, (202) 502-6131, stephen.kartalia@ferc.gov.

j. Deadline for filing comments: July 10, 2023. Reply comments due July 25, 2023.

The Commission strongly encourages electronic filing. Please file motions to intervene and protests, comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket numbers P-1889-085 and P-2485-071.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. FirstLight filed the Settlement Agreement on behalf of itself; National Park Service; Massachusetts Department of Conservation and Recreation; Franklin Regional Council of Governments; Towns of Erving, Gill, Montague, and Northfield, Massachusetts; American Whitewater; Appalachian Mountain Club; Crabapple Whitewater, Inc.; New England FLOW; Zoar Outdoor; Access Fund; and Western Massachusetts Climbers Coalition. The purpose of the Settlement Agreement is to resolve, among the signatories, relicensing issues related to protecting and enhancing public recreation at the projects. The Settlement Agreement includes proposed license articles requiring a Recreation Management Plan (RMP), included as part of the Settlement Agreement, and reflects agreement among the parties concerning the recreation-related recommendations, terms, and conditions to be submitted to the Commission pursuant to sections 10(a) of the Federal Power Act. FirstLight requests that the Commission approve the RMP and accept and incorporate the license articles into any new licenses issued for the projects.

l. A copy of the Settlement Agreement may be viewed on the Commission's website at http://www.ferc.gov using the “eLibrary” link. Enter the docket number, excluding the last three digits, in the docket number field to access the document (i.e., P-1889 and P-2485). For assistance, contact FERC Online Support.

You may also register online at http://www.ferc.gov/docs-filing/esubscription.asp to be notified via email of new filings and issuances related to this or other pending projects. For assistance, contact FERC Online Support.

m. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

Dated: June 20, 2023.
Kimberly D. Bose,
Secretary.

[FR Doc. 2023-13553 Filed 6-26-23; 8:45 am]

BILLING CODE 6717-01-P